DEPARTMENT OF DEFENSE

Office of the Secretary

[Docket ID: DoD-2021-OS-0111]

Submission for OMB Review; Comment Request

AGENCY: Office of the Under Secretary of Defense for Personnel and Readiness (USD(P&R)), Department of Defense (DoD).

ACTION: 30-Day information collection notice.

SUMMARY: The Department of Defense has submitted to OMB for clearance the following proposal for collection of information under the provisions of the Paperwork Reduction Act.

DATES: Consideration will be given to all comments received by February 23, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: DoD Mortuary Affairs Forms; DD Form(s) 3045, 3046, 3047, 3048, 3049, 3050; OMB Control Number 0704-0581.

Type of Request: Extension.

Number of Respondents: 900.

Responses per Respondent: 1.33.

Annual Responses: 1,200.

Average Burden per Response: 15 minutes.

Annual Burden Hours: 300 hours.

Needs and Uses: The information collection requirement is necessary to obtain and document the selection (as applicable) of the Person Authorized to Direct Disposition (PADD), who is authorized to direct disposition of human remains of decedents. As stated in 10 U.S. Code 1481, `Recovery, Care, and Disposition of Remains: Decedents Covered,' the DoD may provide for the recovery, care, and disposition of the remains for active-duty regulars, reserve component members, applicants, trainees, military prisoners, and others. The DoD is further authorized, per 10 U.S.C. 1482 and 10 U.S.C. 1482a to provide reimbursement, cover expenses, or otherwise provide mortuary services for decedents, including civilian employees serving with the armed forces. In order to provide reimbursement or these services, the DoD is charged with electing and documenting the elections of PADD of the remains, to whom the payment/reimbursement is made. The Service Casualty Office and DoD mortuaries use the information provided in this collection to document the election of the PADD for the preparation, transportation, and final disposition of the remains, as applicable. Depending on the circumstances, a PADD may be asked to complete up to six forms. All PADDs will complete the DD Form 3045, but may additionally be asked to provide information on the DD Forms 3046, 3047, 3048, 3049, and/or 3050. A description of each form has been provided to clarify under which circumstances each form may be used.

Affected Public: Individuals or households.

Frequency: On occasion.

Respondent's Obligation: Voluntary.

OMB Desk Officer: Ms. Jasmeet Seehra.

You may also submit comments and recommendations, identified by Docket ID number and title, by the following method:

• Federal eRulemaking Portal: https://www.regulations.gov. Follow the instructions for submitting comments.

Instructions: All submissions received must include the agency name, Docket ID number, and title for this Federal Register document. The general policy for comments and other submissions from members of the public is to make these submissions available for public viewing on the internet at https://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: January 19, 2022.
Aaron T. Siegel,
Alternate OSD Federal Register Liaison Officer, Department of Defense.

[FR Doc. 2022-01270 Filed 1-21-22; 8:45 am]

BILLING CODE 5001-06-P